DEPARTMENT OF ENERGY

Federal Energy Regulatory Commission

Combined Notice of Filings #1

Take notice that the Commission received the following electric rate filings:

Docket Numbers: ER21-2449-004.

Applicants: Assembly Solar II, LLC.

Description: Compliance filing: Revised Rate Schedules to be effective 10/1/2021.

Filed Date: 7/10/23.

Accession Number: 20230710-5064.

Comment Date: 5 p.m. ET 7/31/23.

Docket Numbers: ER23-2218-001.

Applicants: PJM Interconnection, L.L.C.

Description: Tariff Amendment: Correction to Amendment to ISA & ICSA, SA Nos. 6606 & 6607; Queue No. AD1-022 to be effective 8/23/2023.

Filed Date: 7/10/23.

Accession Number: 20230710-5057.

Comment Date: 5 p.m. ET 7/31/23.

Docket Numbers: ER23-2362-000.

Applicants: MidAmerican Energy Company.

Description: Notice of Termination of Interconnection Agreement of MidAmerican Energy Company.

Filed Date: 7/7/23.

Accession Number: 20230707-5254.

Comment Date: 5 p.m. ET 7/28/23.

Docket Numbers: ER23-2363-000.

Applicants: HXOap Solar One, LLC.

Description: Baseline eTariff Filing: HXOap Solar One, LLC—MBR Application to be effective 8/28/2023.

Filed Date: 7/10/23.

Accession Number: 20230710-5035.

Comment Date: 5 p.m. ET 7/31/23.

Take notice that the Commission received the following qualifying facility filings:

Docket Numbers: QF23-1099-000.

Applicants: Generate NB Fuel Cells, LLC.

Description: Form 556 of Generate NB Fuel Cells, LLC.

Filed Date: 7/10/23.

Accession Number: 20230710-5092.

Comment Date: 5 p.m. ET 7/31/23.

Take notice that the Commission received the following PURPA 210(m)(3) filings:

Docket Numbers: QM23-6-000.

Applicants: Golden Spread Electric Cooperative, Inc.

Description: Application of Golden Spread Electric Cooperative, Inc. to Terminate Its Mandatory Purchase Obligation under the Public Utility Regulatory Policies Act of 1978.

Filed Date: 7/7/23.

Accession Number: 20230707-5253.

Comment Date: 5 p.m. ET 8/4/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2023.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 10, 2023.
Debbie-Anne A. Reese,
Deputy Secretary.

[FR Doc. 2023-15115 Filed 7-17-23; 8:45 am]

BILLING CODE 6717-01-P